DEPARTMENT OF LABOR

29 CFR Parts 1910 and 1926

[Docket No. OSHA-2018-0004]

RIN 1218-AD10

Advance Notice of Proposed Rule Making (ANPRM)—Blood Lead Level for Medical Removal

AGENCY: Occupational Safety and Health Administration (OSHA), Labor.

ACTION: Advance Notice of Proposed Rulemaking (ANPRM); extension of comment period.

SUMMARY: The period for submitting public comments is being extended by 60 days to allow stakeholders interested in this rulemaking additional time to collect information and data necessary for comment and response to this ANPRM.

DATES: The comment period for the proposed rule that published at 87 FR 38343 on June 28, 2022, is extended. Comments on the ANPRM and other information must be submitted by October 28, 2022.

ADDRESSES:

Written comments: You may submit comments and attachments, identified by Docket No. OSHA-2018-0004, electronically at http://www.regulations.gov, which is the Federal e-Rulemaking Portal. Follow the instructions online for making electronic submissions.

Instructions: All submissions must include the agency's name and the docket number for this ANPRM Docket No. OSHA-2018-0004. When uploading multiple attachments into Regulations.gov, please number all of your attachments because www.regulations.gov will not automatically number the attachments. For example, Attachment 1—title of your document, Attachment 2—title of your document, Attachment 3—title of your document, etc. When submitting comments or recommendations on the issues that are raised in this ANPRM, commenters should explain their rationale and, if possible, provide data and information to support their comments or recommendations. Wherever possible, please indicate the title of the person providing the information and the type and number of employees at your worksite.

All comments, including any personal information you provide, will be placed in the public docket without change and will be publicly available online at www.regulations.gov. Therefore, OSHA cautions commenters about submitting information they do not want to be made available to the public or submitting materials that contain personal information (either about themselves or others) such as Social Security Numbers and birthdates.

Docket: To read or download comments and materials submitted in response to this Federal Register document, go to Docket No. OSHA-2018-0004 at www.regulations.gov. All comments and submissions are listed in the www.regulations.gov index; however, some information (e.g., copyrighted material) is not publicly available to read or download through that website. All submissions, including copyrighted material, are available for inspection at the OSHA Docket Office. Documents submitted to the docket by OSHA or stakeholders are assigned document identification numbers (Document ID) for easy identification and retrieval. The full Document ID is the docket number plus a unique four-digit code. OSHA is identifying supporting information in this ANPRM by author name and publication year, when appropriate. This information can be used to search for a supporting document in the docket a https://www.regulations.gov. Contact the OSHA Docket Office at 202-693-2350 (TTY number: 877-889-5627) for assistance in locating docket submissions.

FOR FURTHER INFORMATION CONTACT:

Press inquiries: Contact Frank Meilinger, Director, Office of Communications, Occupational Safety and Health Administration, U.S. Department of Labor; telephone: (202) 693-1999; email: meilinger.francis2@dol.gov.

General information and technical inquiries: Contact Andrew Levinson, Director, Directorate of Standards and Guidance, Occupational Safety and Health Administration, U.S. Department of Labor; telephone (202) 693-1950; email: levinson.andrew@dol.gov.

SUPPLEMENTARY INFORMATION: On June 28, 2022, OSHA published an Advance Notice of Proposed Rulemaking (ANPRM) to seek input on potential revisions to its standards for occupational exposure to lead based on medical findings since the issuance of OSHA's lead standards that adverse health effects in adults can occur at Blood Lead Levels (BLLs) lower than the medical removal level (≥60 μg/dL in general industry, ≥50 μg/dL in construction) and lower than the level required under current standards for an employee to return to their former job status (<40 μg/dL). The agency is seeking input on reducing the current BLL triggers in the medical surveillance and medical removal protection provisions of the general industry and construction standards for lead. The agency is also seeking input about how current ancillary provisions in the lead standards can be modified to reduce worker BLLs.

The public comment period for this ANPRM was to close on August 29, 2022, 60 days after publication of the ANPRM. However, OSHA received multiple stakeholder requests for an extension of the public comment period (Document ID OSHA-2018-0004-0088 (requesting an extension of 90 additional days), OSHA-2018-0004-0089 (requesting an extension of 90 additional days), OSHA-2018-0004-0091 (requesting an extension of 60 days), OSHA-2018-0004-0092 (requesting a minimum extension of 30 days) and OSHA-2018-0004-0093 (requesting an extension of 90 days)). The comments state that due to the breadth and complexity of the technical issues involved in this ANPRM, more time is needed to gather data and information and to coordinate responses from organization members to develop a comprehensive response.

OSHA agrees to an extension and believes a 60-day extension of the public comment period is sufficient and appropriate in order to address these stakeholder requests. Therefore, the public comment period will be extended until October 28, 2022.

Authority and Signature

Douglas Parker, Assistant Secretary of Labor for Occupational Safety and Health, U.S. Department of Labor, 200 Constitution Avenue NW, Washington, DC 20210, authorized the preparation of this document pursuant to the following authorities: sections 4, 6, and 8 of the Occupational Safety and Health Act of 1970 (29 U.S.C. 653, 655, 657), Secretary of Labor's Order 8-2020 (85 FR 58393 (Sept. 18, 2020)) 29 CFR part 1911 and 5 U.S.C. 553.

Signed at Washington, DC, on August 2, 2022.
Douglas L. Parker,
Assistant Secretary of Labor for Occupational Safety and Health.

[FR Doc. 2022-17800 Filed 8-17-22; 8:45 am]

BILLING CODE 4510-26-P